ENVIRONMENTAL PROTECTION AGENCY

[EPA-HQ-OPP-2009-1017; FRL-9914-00]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a June 4, 2014 Federal Register Notice of Receipt of Requests from the registrants listed in Table 2 of Unit II. to voluntarily cancel these product registrations. In the June 4, 2014 Federal Register notice, EPA indicated that it would issue an order implementing the cancellations, unless the Agency received substantive comments within the 30-day comment period that would merit its further review of these requests, or unless the registrants withdrew their requests. The Agency did not receive any comments on the June 4, 2014 Federal Register notice. Further, the registrants did not withdraw their requests. Accordingly, EPA hereby issues in this notice a cancellation order granting the requested cancellations. Any distribution, sale, or use of the products subject to this cancellation order is permitted only in accordance with the terms of this order, including any existing stocks provisions.

DATES: The cancellations are effective August 13, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3. These registrations are listed in sequence by registration number in Table 1 of this unit.

Table 1—Product Cancellations
EPA Registration No. | Product name | Chemical name
000100-00867 | Barricade F Herbicide | Prodiamine.
000100-00879 | Barricade G Herbicide | Prodiamine.
000432-00799 | AquaPy | Piperonyl butoxide and pyrethrins (No inert use).
000464-00664 | Bioban CS-40L Preservative | 4,4-Dimethyloxazolidine.
001448-00371 | Busan 1020L | Metam-sodium.
004713-00004 | Kenya Pyrethrum Extract Crude Concentrate A | Pyrethrins (No inert use).
007969-00057 | Ronilan Manufacturer's Concentrate | Vinclozolin.
007969-00085 | Ronilan EG Fungicide | Vinclozolin.
007969-00224 | Curalan EG Fungicide | Vinclozolin.
011603-00035 | Bromotril Technical | Bromoxynil octanoate.
011603-00036 | Agan Bromoxynil Technical | Bromoxynil octanoate.
011603-00048 | Nicosulfuron Technical | Nicosulfuron.
019713-00299 | Drexel Sanitizit | Phosphoric acid and dodecylbenzenesulfonic acid.
040849-00056 | Enforcer Flea Fogger XX | MGK 264, pyrethrins (No inert use), pyriproxyfen, and permethrin.
046386-00002 | Prometrex Technical | Prometryn.
053883-00241 | CSI Wipe & Spray Insecticide | Stabilene, pyrethrins (No inert use), and piperonyl butoxide.
072159-00002 | ImidaPro 2SC Systemic Insecticide | Imidacloprid.
073801-00002 | Permethrin Technical | Permethrin.

Table 2 of this unit includes the names and addresses of record for all registrants of the products in Table 1 of this unit, in sequence by EPA company number. This number corresponds to the first part of the EPA registration numbers of the products listed in Table 1 of this unit.

Table 2—Registrants of Cancelled Products
EPA company No. | Company name and address
100 | Syngenta Crop Protection, LLC, 410 Swing Rd., P.O. Box 18300, Greensboro, NC 27419-8300
432 | Bayer Environmental Science, A Division of Bayer, CropScience LP, 2 T.W. Alexander Dr., P.O. Box 12014, Research Triangle Park, NC 27709
464 | The Dow Chemical Co., Agent: The Dow Chemical Company, 100 Larkin Center, 1650 Joseph Dr., Midland, MI 48674
1448 | Buckman Laboratories, Inc., 1256 North McLean Blvd., Memphis, TN 38108
4713 | Pyrethrum Board of Kenya, Agent: Regwest Company, LLC, 8203 West 20th St., Suite A, Greeley, CO 80634-4696
7969 | BASF Corporation, Agricultural Products, 26 Davis Dr., P.O. Box 13528, Research Triangle Park, NC 27709-3528
11603 | Agan Chemical Manufacturing, LTD, Agent: Makhteshim-Agan of North America, Inc., 3120 Highwoods Blvd., Suite 100, Raleigh, NC 27604
19713 | Drexel Chemical Company, P.O. Box 13327, Memphis, TN 38113-0327
40849 | ZEP Commercial Sales & Service, A Unit of Zep, Inc., Agent: Compliance Services, 1259 Seaboard Industrial Blvd., NW, Atlanta, GA 30318
46386 | Verolit Chemical, Manufacturers, LTD, Agent: Makhteshim-Agan of North America, Inc., 3120 Highwoods Blvd., Suite 100, Raleigh, NC 27604
53883 | Control Solutions, Inc., 5903 Genoa-Red Bluff Rd., Pasadena, TX 77507-1041
72159 | Agrisel USA, Inc., Agent: Biologic, Inc., 115 Obtuse Hill Rd., Brookfield, CT 06804
73801 | Tagros Chemicals India, LTD, Agent: Biologic, Inc., 115 Obtuse Hill Rd., Brookfield, CT 06804

III. Summary of Public Comments Received and Agency Response to Comments

During the public comment period provided, EPA received no comments in response to the June 4, 2014 Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is August 13, 2014. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of June 4, 2014 (79 FR 32288) (FRL-9910-97). The comment period closed on July 7, 2014.

VI. Provisions for Disposition of Existing Stocks

Existing stocks are those stocks of registered pesticide products which are currently in the United States and which were packaged, labeled, and released for shipment prior to the effective date of the cancellation action. The existing stocks provisions for the products subject to this order are as follows.

A. For Products 000464-00664, 011603-00048, and 053883-00241

The registrants have indicated to the Agency via written response that there are no existing stocks of technical or end use products. Therefore, no existing stocks date is necessary. Registrants are prohibited from selling or distributing the pesticides identified in Table 1 of Unit II., except for export consistent with FIFRA section 17 or for proper disposal. Persons other than the registrants may sell, distribute, or use existing stocks of products listed in Table 1 of Unit II. until existing stocks are exhausted, provided that such sale, distribution, or use is consistent with the terms of the previously approved labeling on, or that accompanied, the canceled products.

B. For Products 007969-00057, 007969-00085, and 007969-00224

The registrant has indicated to the Agency via letter that all registrations for the active ingredient vinclozolin will be phased out. Because the Agency has identified no significant potential risk concerns associated with these pesticide products, EPA is allowing registrants to sell and distribute existing stocks of these products until December 31, 2016. Thereafter, registrants, and persons other than registrants, are prohibited from selling or distributing existing stocks of products containing vinclozolin identified in Table 1 of Unit II., except for export consistent with FIFRA section 17 or for proper disposal. Existing stocks of products containing vinclozolin already in the hands of users can be used legally until such stocks are exhausted, provided that the use is consistent with the terms of the previously approved labeling on, or that accompanied, the cancelled products.

C. For All Other Products Identified in Table 1 of Unit II.

Registrants may continue to sell and distribute existing stocks of products listed in Table 1 of Unit II. until August 13, 2015, which is 1 year after the publication of the Cancellation Order in the Federal Register. Thereafter, registrants are prohibited from selling or distributing the pesticides listed in Table 1 of Unit II., except for export consistent with FIFRA section 17 or for proper disposal. Persons other than registrants may sell, distribute, or use existing stocks of products listed in Table 1 of Unit II. until such stocks are exhausted, provided that such sale, distribution, or use is consistent with the terms of the previously approved labeling on, or that accompanied, the canceled products.

List of Subjects

Environmental protection, Pesticides and pests.

Dated: July 29, 2014.
Richard P. Keigwin, Jr.,
Director, Pesticide Re-Evaluation Division, Office of Pesticide Programs.

[FR Doc. 2014-18961 Filed 8-12-14; 8:45 am]

BILLING CODE 6560-50-P